DEPARTMENT OF TRANSPORTATION

Federal Aviation Administration

14 CFR Part 39

[Docket No. FAA-2008-0014; Directorate Identifier 2007-NM-249-AD]

RIN 2120-AA64

Airworthiness Directives; Airbus Model A318, A319, A320, and A321 Airplanes

AGENCY: Federal Aviation Administration (FAA), Department of Transportation (DOT).

ACTION: Notice of proposed rulemaking (NPRM).

SUMMARY: The FAA proposes to supersede an existing airworthiness directive (AD) that applies to certain Airbus Model A318, A319, A320, and A321 airplanes. The existing AD currently requires repetitive inspections for cracking in the forward lug of the support rib 5 fitting of both main landing gear (MLG), and repair if necessary. The existing AD also provides optional terminating actions for certain airplanes, as well as other optional methods for complying with the inspection requirements of the existing AD. This proposed AD would continue to require repetitive inspections for cracking in the forward lug of the support rib 5 fitting of the left and right MLG at new repetitive intervals in accordance with new service information, and repair or replacement of any cracked MLG fitting if necessary. This proposed AD would also require modification of the rib bushings of the left and right MLG, which would end the repetitive inspections. This proposed AD results from cracks found in the forward lug of the MLG support rib 5 fitting. We are proposing this AD to prevent cracking in the forward lug of the MLG, which could result in failure of the lug and consequent collapse of the MLG during takeoff or landing.

DATES: We must receive comments on this proposed AD by February 13, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Airbus, 1 Rond Point Maurice Bellonte, 31707 Blagnac Cedex, France.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Tim Dulin, Aerospace Engineer, International Branch, ANM-116, Transport Airplane Directorate, FAA, 1601 Lind Avenue, SW., Renton, Washington 98057-3356; telephone (425) 227-2141; fax (425) 227-1149.

SUPPLEMENTARY INFORMATION:

Comments Invited

We invite you to send any written relevant data, views, or arguments about this proposed AD. Send your comments to an address listed under the ADDRESSES section. Include “Docket No. FAA-2008-0014; Directorate Identifier 2007-NM-249-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On May 15, 2006, we issued AD 2006-11-04, amendment 39-14608 (71 FR 29578, May 23, 2006), for certain Airbus Model A318, A319, A320, and A321 airplanes. AD 2006-11-04 requires repetitive detailed inspections for cracking in the forward lug of the support rib 5 fitting of both main landing gear (MLG), and repair if necessary. AD 2006-11-04 also provides optional terminating actions for certain airplanes, as well as other optional methods for complying with the inspection requirements of the existing AD. That AD resulted from a new crack that was found in the forward lug of the MLG support rib 5 fitting. We issued that AD to detect and correct cracking in the forward lug of the MLG, which could result in failure of the lug and consequent collapse of the MLG during takeoff or landing.

Actions Since Existing AD Was Issued

Since we issued AD 2006-11-04, the European Aviation Safety Agency (EASA), which is the technical agent for the Member States of the European Union, notified us that the repetitive inspection intervals must be adjusted and that the optional terminating action, which would end the repetitive inspections, must be mandated for all airplanes. In the preamble to AD 2006-11-04, we indicated that the actions required by that AD were considered “interim action,” and that we were considering further rulemaking to require the modification of the lugs of the support rib 5 fitting of both MLG, which would terminate the repetitive inspections required by AD 2006-11-04. We have now determined that further rulemaking action is indeed necessary, and this proposed AD follows from that determination.

Relevant Service Information

Airbus has issued Service Bulletin A320-57-1138, Revision 01, dated October 27, 2006. The service bulletin describes procedures for (1) doing repetitive visual inspections or repetitive ultrasonic inspections for cracking in the forward lug of the support rib 5 fitting of the left and right MLG, (2) doing repetitive visual inspections for cracking in the forward lug of the support rib 5 fitting if any cracking is found during an ultrasonic inspection, and (3) contacting the manufacturer for instructions if any cracking is found during a visual inspection. The service bulletin also specifies that accomplishing Airbus Service Bulletin A320-57-1118 eliminates the need for the repetitive inspections.

Airbus has also issued Service Bulletin A320-57-1118, Revision 03, dated April 23, 2007. The service bulletin describes procedures for modifying the rib bushings of the left and right MLG. The modification includes removing the existing bushings, doing a visual inspection for corrosion and damage to the bores and spotfaces, repairing any corrosion or damage found during the detailed inspection, and installing new improved bushings and applying a certain protective sealant to the bores and spotfaces of the lugs for the pintle-pin bushings of gear rib 5. Accomplishing the modification eliminates the need for the repetitive inspections specified in Airbus Service Bulletin A320-57-1138.

Accomplishing the actions specified in the service information is intended to adequately address the unsafe condition. The EASA mandated the service information and issued airworthiness directive 2007-0213, dated August 7, 2007, to ensure the continued airworthiness of these airplanes in the European Union.

FAA's Determination and Requirements of the Proposed AD

These airplanes are manufactured in France and are type certificated for operation in the United States under the provisions of section 21.29 of the Federal Aviation Regulations (14 CFR 21.29) and the applicable bilateral airworthiness agreement. As described in FAA Order 8100.14A, “Interim Procedures for Working with the European Community on Airworthiness Certification and Continued Airworthiness,” dated August 12, 2005, the EASA has kept the FAA informed of the situation described above. We have examined the EASA's findings, evaluated all pertinent information, and determined that AD action is necessary for airplanes of this type design that are certificated for operation in the United States.

This proposed AD would supersede AD 2006-11-04 and would retain the requirements of the existing AD, until the new inspections have been initiated. This proposed AD would also require accomplishing the actions specified in service information described previously, except as discussed under “Differences between Proposed AD and Service Bulletin.”

Differences Between Proposed AD and Service Bulletin

Although EASA airworthiness directive 2007-0213 specifies repeating the inspections at the intervals defined in Airbus Service Bulletin A320-57-1138, the intent is to require the repetitive inspections at those intervals, or before further flight after a hard landing, whichever is first. We have coordinated this difference with the EASA.

EASA airworthiness directive 2007-0213 and Airbus Service Bulletin A320-57-1138 permit further flight if cracking is found during the ultrasonic inspection but is not detected by a visual inspection. This proposed AD, however, would require repair or replacement of any cracked MLG fitting before further flight. We have determined that because of the safety implications and consequences associated with cracking in the subject area, the MLG fitting must be repaired or replaced before further flight regardless of how the crack is detected. We note that cracking found during the ultrasonic inspection may be repaired with oversized bushings, whereas cracking detected during the visual inspection would require extensive repair or replacement of the MLG fitting.

Airbus Service Bulletin A320-57-1138 specifies to contact the manufacturer for instructions on how to repair certain conditions, but this proposed AD would require repairing those conditions using a method approved by the FAA or the EASA (or its delegated agent). In light of the type of repair that would be required to address the unsafe condition, and consistent with existing bilateral airworthiness agreements, we have determined that, for this proposed AD, a repair approved by the FAA or the EASA would be acceptable for compliance with this proposed AD.

Costs of Compliance

This proposed AD would affect about 466 airplanes of U.S. registry.

The actions that are required by AD 2006-11-04 and retained in this proposed AD take about 2 work hours per airplane, at an average labor rate of $80 per work hour. Based on these figures, the estimated cost of the currently required actions is $160 per airplane, per inspection cycle.

The new proposed inspections would take between 3 and 4 work hours per airplane, depending on the type of inspection accomplished, at an average labor rate of $80 per work hour. Based on these figures, the estimated cost of the new inspections specified in this proposed AD for U.S. operators is between $111,840 and $149,120, or between $240 and $320 per airplane, per inspection cycle.

The new proposed modification would take about 73 work hours per airplane, at an average labor rate of $80 per work hour. Required parts would cost $3,850 per airplane. Based on these figures, the estimated cost of the new modification specified in this proposed AD for U.S. operators is $4,515,540, or $9,690 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14608 (71 FR 29578, May 23, 2006) and adding the following new airworthiness directive (AD):

Airbus: Docket No. FAA-2008-0014; Directorate Identifier 2007-NM-249-AD.

Comments Due Date

(a) The FAA must receive comments on this AD action by February 13, 2008.

Affected ADs

(b) This AD supersedes AD 2006-11-04.

Applicability

(c) This AD applies to Airbus Model A318, A319, A320, and A321 airplanes, certificated in any category, except airplanes on which Airbus Modification 32025 has been accomplished in production.

Unsafe Condition

(d) This AD results from cracks found in the forward lug of the main landing gear (MLG) support rib 5 fitting. We are issuing this AD to prevent cracking in the forward lug of the MLG, which could result in failure of the lug and consequent collapse of the MLG during takeoff or landing.

Compliance

(e) You are responsible for having the actions required by this AD performed within the compliance times specified, unless the actions have already been done.

Restatement of Certain Requirements of AD 2006-11-04

Repetitive Detailed Inspections

(f) Within 8 days after June 7, 2006 (the effective date of AD 2006-11-04), or before further flight after a hard landing, whichever is first: Perform a detailed inspection for cracking in the forward lug of the support rib 5 fitting of the left- and right-hand MLG, and, if any crack is found, replace the MLG fitting with a new fitting before further flight, in accordance with a method approved by either the Manager, International Branch, ANM-116, FAA; or the European Aviation Safety Agency (EASA) (or its delegated agent). Accomplishing the actions specified in the Airbus A318/A319/A320/A321 Nondestructive Testing Manual, Chapter 51-90-00, revision dated February 1, 2003, is one approved method for performing the detailed inspection. Repeat the inspection thereafter at intervals not to exceed 8 days, or before further flight after a hard landing, whichever is first. As of the effective date of this AD, the repetitive inspections required by paragraph (i) of this AD must be accomplished in lieu of the repetitive inspections required by this paragraph.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Optional Inspection Method

(g) Performing an ultrasonic inspection for cracking in the forward lug of the support rib 5 fitting of the left- and right-hand MLG in accordance with a method approved by the Manager, International Branch, ANM-116; or the EASA (or its delegated agent); is an acceptable alternative method of compliance for the initial and repetitive inspections required by paragraph (f) of this AD. Doing the actions specified in the A318/A319/A320/A321 Nondestructive Testing Manual, Chapter 57-29-03, revision dated February 1, 2005 (for Model A318, A319, and A320 airplanes), or Chapter 57-29-04, revision dated May 1, 2005 (for Model A321 airplanes), as applicable, is one approved method for performing the ultrasonic inspection.

Optional Terminating Action

(h) For Model A319, A320, and A321 airplanes: Repair of the forward lugs of the support rib 5 fitting of the left- and right-hand MLG in accordance with a method approved by the Manager, International Branch, ANM-116; or the EASA (or its delegated agent); constitutes terminating action for the requirements of this AD. Doing the repair in accordance with Airbus A319 Structural Repair Manual (SRM), Chapter 5.C., 57-26-13, revision dated November 1, 2004; Airbus A320 SRM, Chapter 5.D., 57-26-13, revision dated November 1, 2004; or Airbus A321 SRM, Chapter 5.D., 57-26-13, revision dated February 1, 2005; as applicable; is one approved method.

New Requirements of This AD

New Repetitive Inspections

(i) At the applicable time specified in Table 1 of this AD, or before further flight after a hard landing, whichever is first: Do a visual inspection or ultrasonic inspection for cracking in the forward lug of the support rib 5 fitting of the left and right MLG, in accordance with the Accomplishment Instructions of Airbus Service Bulletin A320-57-1138, Revision 01, dated October 27, 2006. Repeat the inspection thereafter at the applicable interval specified in Table 1 of this AD or before further flight after a hard landing, whichever is first, until the modification required by paragraph (k) of this AD has been accomplished. Accomplishing the initial inspection terminates the requirements of paragraph (f) of this AD.

Table 1.—Compliance Times
Airplanes | Initial inspection | Repetitive interval
Model A318, A319, and A320 airplanes | If the most recent inspection is a detailed inspection done in accordance with paragraph (f) of this AD, inspect within 150 flight cycles after the most recent detailed inspection | Within 150 flight cycles after a visual inspection.
| If the most recent inspection is an ultrasonic inspection done in accordance with paragraph (g) of this AD, inspect within 940 flight cycles after the most recent ultrasonic inspection | Within 940 flight cycles after an ultrasonic inspection.
Model A321 airplanes | If the most recent inspection is a detailed inspection done in accordance with paragraph (f) of this AD, inspect within 100 flight cycles after the most recent detailed inspection | Within 100 flight cycles after a visual inspection.
| If the most recent inspection is an ultrasonic inspection done in accordance with paragraph (g) of this AD, inspect within 630 flight cycles after the most recent ultrasonic inspection | Within 630 flight cycles after an ultrasonic inspection.

Corrective Action

(j) If any cracking is found during any inspection required by paragraph (i) of this AD: Before further flight, repair or replace the cracked MLG fitting using a method approved by either the Manager, International Branch, ANM-116, or the EASA (or its delegated agent).

Terminating Action

(k) Within 60 months after the effective date of this AD, modify the rib bushings of the left and right MLG, by accomplishing all of the applicable actions specified in the Accomplishment Instructions of Airbus Service Bulletin A320-57-1118, Revision 03, dated April 23, 2007. Accomplishing the modification terminates the requirements of this AD.

Credit for Actions Done According to Previous Issue of Service Bulletin

(l) For Model A319, A320, and A321 airplanes, modifying the lugs of the support rib 5 fitting of the left and right MLG is acceptable for compliance with the requirements of paragraph (k) of this AD if done before the effective date of this AD in accordance with one of the following service bulletins: Airbus Service Bulletin A320-57-1118, dated September 5, 2002; Revision 01, dated August 28, 2003; or Revision 02, dated August 2, 2006.

Alternative Methods of Compliance (AMOCs)

(m)(1) The Manager, International Branch, ANM-116, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

(3) AMOCs approved previously in accordance with AD 2006-11-04 are approved as AMOCs for the corresponding provisions of this AD.

Related Information

(n) EASA airworthiness directive 2007-0213, dated August 7, 2007, also addresses the subject of this AD.

Issued in Renton, Washington, on December 26, 2007.
Ali Bahrami,
Manager, Transport Airplane Directorate, Aircraft Certification Service.

[FR Doc. E8-383 Filed 1-11-08; 8:45 am]

BILLING CODE 4910-13-P